DEPARTMENT OF STATE

[Public Notice 7910]

30-Day Notice of Proposed Information Collection: DS 5507, Affidavit of Physical Presence or Residence, Parentage and Support, (OMB No.1405-0187)

ACTION: Notice of request for public comment and submission to OMB of proposed collection of information.

SUMMARY: The Department of State has submitted the following information collection request to the Office of Management and Budget (OMB) for approval in accordance with the Paperwork Reduction Act of 1995.

• Title of Information Collection: DS 5507, Affidavit of Physical Presence or Residence, Parentage and Support.

• OMB Control Number: OMB No.1405-0187.

• Type of Request: Revision.

• Originating Office: Bureau of Consular Affairs, Overseas Citizens Services (CA/OCS).

• Form Number: DS-5507.

• Respondents: United States Citizens.

• Estimated Number of Respondents: 17,784.

• Estimated Number of Responses: 17,784.

• Average Hours per Response: 30 minutes.

• Total Estimated Burden: 8,892 hours.

• Frequency: On Occasion.

• Obligation to Respond: Application for Benefits. Although acquisition of citizenship is not a federal “benefit,” applicants will not be able to obtain citizenship for their child(ren) if they do not provide the information requested in the form.

DATES: Submit comments to the Office of Management and Budget (OMB) for up to 30 days from June 1, 2012.

ADDRESSES: Direct comments to the Department of State Desk Officer in the Office of Information and Regulatory Affairs at the Office of Management and Budget (OMB). You may submit comments by the following methods:

• Email: oira_submission@omb.eop.gov. You must include the DS form number, information collection title, and OMB control number in the subject line of your message.

• Fax: 202-395-5806. Attention: Desk Officer for Department of State.

FOR FURTHER INFORMATION CONTACT: You may obtain copies of the proposed information collection and supporting documents from Derek A. Rivers, Bureau of Consular Affairs, Overseas Citizens Services (CA/OCS/PRI), U.S. Department of State, SA-29, 4th Floor, Washington, DC 20520 or at ASKPRI@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond,

Abstract of proposed collection:The purpose of the information collection is to determine if a U.S. citizen/national parent possesses the requisite physical presence or residence in the United States prior to their child's birth to transmit U.S. citizenship to the child, to establish parentage of the child, and to fulfill the requirements of 8 U.S.C. 1409(a) which requires a written statement of financial support to be provided by U.S. citizen fathers for children born out of wedlock.

Methodology:The information is collected in person. The Bureau of Consular Affairs is currently exploring options to make this information collection available electronically.

Dated: May 14, 2012.
Michelle Bernier-Toth,
Managing Director, Bureau of Consular Affairs, Department of State.

[FR Doc. 2012-13341 Filed 5-31-12; 8:45 am]

BILLING CODE 4710-06-P